DEPARTMENT OF ENERGY

Federal Energy Regulatory Commission

[Project No. 12347-000]

Universal Electric Power Corporation; Notice of Extension of Deadline for Filing Comments and or Motions on Notice of Preliminary Permit Application

April 11, 2003.

On January 28, 2003, the Commission issued in the above-captioned docket a “Notice of Application Accepted for Filing and Soliciting Comments, Protests, and Motions to Intervene” for the Coffeeville L&D Hydroelectric Project. Take notice that the deadline for filing comments, protests, or motions to intervene is extended to April 30, 2003.

Magalie R. Salas,
Secretary.

[FR Doc. 03-9523 Filed 4-16-03; 8:45 am]

BILLING CODE 6717-01-P